DEPARTMENT OF ENERGY

Federal Energy Regulatory Commission

[Project Nos. 2731-020 & 2737-002 Vermont]

Central Vermont Public Service Corporation; Notice of Availability of Final Environmental Assessment

November 1, 2000.

In accordance with the National Environmental Policy Act of 1969, and the Federal Energy Regulatory Commission's (Commission's) regulations, 18 CFR part 380 (Order No. 486, 52 FR 47897), the Office of Hydropower Licensing has reviewed the applications for new license for the continued operation of the Weybridge and Middlebury Lower Hydroelectric Projects located on Otter Creek, in the towns of Middlebury and Weybridge, Addison County, Vermont, and has prepared a Final Environmental Assessment (FEA) for the projects. In the FEA, the Commission's staff has analyzed the potential environmental impacts of the projects, evaluated comments filed in response to the issuance of the Draft Environmental Assessment (DEA), and has concluded that approval of the projects, with appropriate environmental protection measures, would not constitute a major federal action significantly affecting the quality of the human environment.

Copies of the FEA are available for review in the Public Reference Branch, Room 2-A, of the Commission's offices at 888 First Street, NE., Washington, DC 20426. The FEA may also be viewed on the web at http://www.ferc.fed.us/online/rims.htm. Please call (202) 208-2222 for assistance.

David P. Boergers,
Secretary.

[FR Doc. 00-28470 Filed 11-06-00; 8:45 am]

BILLING CODE 6717-01-M